NATIONAL FOUNDATION ON THE ARTS AND THE HUMANITIES

National Endowment for the Humanities

Infrastructure Programs Subject to the Build America, Buy America Act

AGENCY: National Endowment for the Humanities; National Foundation on the Arts and the Humanities.

ACTION: Notice.

SUMMARY: Pursuant to the Build America, Buy America Act, Title IX of Division G of the Infrastructure Investment and Jobs Act of 2021, this notice identifies each Federal financial assistance program for infrastructure that the National Endowment for the Humanities (NEH) administers.

FOR FURTHER INFORMATION CONTACT: Richard Brundage, Director of Grant Management, National Endowment for the Humanities, 400 7th Street SW, Washington, DC 20506; (202) 606-8204; rbrundage@neh.gov.

SUPPLEMENTARY INFORMATION:

I. Background

Section 70913 of the Build America, Buy America Act, Title IX of Division G of the Infrastructure Investment and Jobs Act of 2021, Public Law 117-58, 135 Stat. 429 (the IIJA), directs the head of each Federal agency to submit to the Office of Management and Budget (OMB) and to Congress, including a separate notice to each appropriate congressional committee, a report that identifies each Federal financial assistance program for infrastructure administered by the Federal agency; and to publish the report in the Federal Register.

II. Identification of Agency Domestic Content Procurement Preferences

Except for the Uniform Administrative Requirements at 2 CFR 200.322, no statutes, appropriations acts, or other Federal laws, including those specifically referenced in section 70913(b)(2) of the IIJA, provide domestic content procurement preferences applicable to NEH awards.

2 CFR 200.322 encourages Federal award recipients, to the extent permitted by law, to maximize their use of goods, products, and materials produced in the United States when procuring goods and services under Federal awards. This preference is applicable to all NEH awards. No exceptions or waivers have been granted by NEH.

III. Description of Agency Programs Supporting Infrastructure Projects

NEH has identified two Federal Assistance Listings under which it supports infrastructure projects: Promotion of the Humanities Challenge Grants (Federal Assistance Listing 45.130), and the Promotion of the Humanities Division of Preservation and Access (Federal Assistance Listing 45.149).

1. Infrastructure and Capacity Building Challenge Grants

The Office of Challenge Programs' Infrastructure and Capacity Building Challenge Grants: Capital Projects program supports the design, purchase, construction, restoration, or renovation of facilities for humanities activities. This includes the purchase and installation of related moveable and permanently affixed equipment for exhibiting, maintaining, monitoring, and protecting collections (whether on exhibit or in storage), and for critical building systems, such as electrical, heating ventilation and air conditioning, security, life safety, lighting, utilities, telecommunications, and energy management.

The Infrastructure and Capacity Building Challenge Grants: Digital Infrastructure program supports the maintenance, modernization, and sustainability of existing digital scholarly projects and platforms.

NEH awarded 69 Challenge Grants between fiscal years 2019 and 2021 (38 in FY 2019, 21 in FY 2020, and 10 in FY 2021), and awarded a total of $24,355,694 in grant funding ($14,708,445 in FY 2019, $5,581,778 in FY 2020, and $4,065,471 in FY 2021).

2. Sustaining Cultural Heritage Collections

The Division of Preservation and Access's Sustaining Cultural Heritage Collections program helps cultural institutions meet the complex challenge of preserving large and diverse holdings of humanities materials for future generations by supporting sustainable conservation measures that mitigate deterioration, prolong the useful life of collections, and support institutional resilience. This includes building environmental controls as part of preventive conservation.

NEH awarded 45 Sustaining Cultural Heritage Collections awards between fiscal years 2019 and 2021 (18 in FY 2019, 14 in FY 2020, and 13 in FY 2021), and awarded a total of $6,953,645 in grant funding ($2,678,805 in FY 2019, $1,876,479 in FY 2020, and $2,398,361 in FY 2021).

III. Identification of Deficient Agency Programs

The NEH infrastructure programs listed in Section II (Infrastructure and Capacity Building Challenge Grants and Sustaining Cultural Heritage Collections) are inconsistent with section 70914 of the IIJA. NEH will work with OMB to ensure appropriate policies and procedures are in place to comply with the requirements of section 70914 of the IIJA by May 14, 2022.

Dated: January 14, 2022.
Samuel Roth,
Attorney-Advisor, National Endowment for the Humanities.

[FR Doc. 2022-01077 Filed 1-19-22; 8:45 am]

BILLING CODE 7536-01-P